OVERSEAS PRIVATE INVESTMENT CORPORATION

Sunshine Act Meeting; Revised Notice; Board of Directors Meeting

TIME AND DATE: Thursday, September 19, 2013, 2 p.m. (OPEN Portion), 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.).

MATTERS TO BE CONSIDERED:

1. President's Report

2. Tribute—Ambassador Demetrios J. Marantis

3. Tribute—Robert D. Hormats

4. Confirmation—Michael S. Whalen as Vice President, Structured Finance

5. Minutes of the Open Session of the June 13, 2013 Board of Directors Meeting

FURTHER MATTERS TO BE CONSIDERED (Closed to the Public 2:15 p.m.):

1. Proposed FY 2015 Budget

2. Finance Project—Kenya and Tanzania

3. Finance Project -Pakistan

4. Finance Project—Chile

5. Finance Project—Brazil

6. Finance Project—Turkey

7. Finance Project—Chile

8. Insurance Project—Egypt

9. Minutes of the Closed Session of the June 13, 2013 Board of Directors Meeting

10. Minutes of the August 14, 2013 Special Meeting of the Board of Directors

11. Minutes of the August 19, 2013 Special Meeting of the Board of Directors

12. Reports

13. Pending Major Projects

Written summaries of the projects to be presented are posted on OPIC's Web site.

CONTACT PERSON FOR INFORMATION: Information on the meeting may be obtained from Connie M. Downs at (202) 336-8438.

Dated: September 11, 2013.
Connie M. Downs,
Corporate Secretary, Overseas Private Investment Corporation.

[FR Doc. 2013-22507 Filed 9-12-13; 11:15 am]

BILLING CODE 3210-01-P